OFFICE OF THE UNITED STATES TRADE REPRESENTATIVE

[Docket Number USTR-2024-0017]

Request for Comments on the U.S.-EU Trade and Technology Council (TTC) Global Trade Challenges Working Group

AGENCY: Office of the United States Trade Representative.

ACTION: Request for comments.

SUMMARY: The Office of the United States Trade Representative (USTR) seeks comments on the U.S.-EU Trade and Technology Council (TTC) Global Trade Challenges Working Group. USTR will use these comments as it considers future TTC-related collaboration it may pursue with the European Commission's Directorate-General for Trade (DG Trade).

DATES: To be assured of consideration, submit written comments by the October 21, 2024, 11:59 p.m. ET deadline.

ADDRESSES: USTR strongly prefers electronic submissions made through the Federal eRulemaking Portal: http://www.regulations.gov (Regulations.gov). Follow the instructions for submitting comments in section III below, using docket number is USTR-2024-0017. For alternatives to online submissions, please contact Michael Rogers, Deputy Assistant U.S. Trade Representative for Europe, at Michael.A.Rogers@ustr.eop.gov or 202.395.2684, in advance of the deadline.

FOR FURTHER INFORMATION CONTACT: Michael Rogers, Deputy Assistant U.S. Trade Representative for Europe, at Michael.A.Rogers@ustr.eop.gov or 202.395.2684.

SUPPLEMENTARY INFORMATION:

I. Background

On June 15, 2021, the United States and the European Union (EU) announced the creation of the TTC with goals to:

• Grow the bilateral trade and investment relationship.

• Avoid new unnecessary technical barriers to trade.

• Coordinate, seek common ground, and strengthen global cooperation on technology, digital issues, and supply chains.

• Support collaborative research and exchanges.

• Cooperate on compatible and international standards development.

• Facilitate regulatory policy and enforcement cooperation and, where possible, convergence.

• Promote innovation and leadership by U.S. and European firms.

• Contribute to the creation of a stronger, more sustainable, and more resilient transatlantic marketplace through the facilitation of environmentally responsible trade in goods and technologies.

• Advance cooperation to benefit workers in the global economy.

• Strengthen other areas of cooperation.

The work undertaken in the TTC is without prejudice to the regulatory autonomy of the U.S. and the EU and respects the different legal systems in both jurisdictions.

The U.S. and the EU established ten working groups to undertake the work of the TTC. USTR and DG Trade serve as the U.S. and EU co-chairs of the Global Trade Challenges Working Group (Trade Working Group). Many of the activities of the Trade Working Group fall within three broad categories of cooperation:

1. To enhance inclusive and sustainable bilateral U.S.-EU trade in goods and services, including through the use of digital technology.

2. To address and counter non-market policies and practices that unfairly undermine the competitiveness of U.S and EU workers and firms.

3. On trade and labor issues, including through the tripartite transatlantic Trade and Labor Dialogue (TALD), established through the TTC.

Non-market policies and practices of concern include, but are not limited to:

• Targeting of key industries for dominance.

• Creation and maintenance of non-market excess capacity.

• Unfair labor practices including the use of forced labor.

• Forced or pressured technology transfer, including through state-sponsored theft of intellectual property.

• Market-distorting industrial subsidies, including support given to and through state-owned enterprises (SOEs), and all other types of support offered by governments.

• Discriminatory treatment of foreign companies and their products and services in support of industrial policy objectives.

• Anti-competitive and non-market actions of SOEs.

In April 2024, the U.S. and the EU held the sixth ministerial-level meeting of the TTC in Leuven, Belgium. In the joint statement released at the end of the ministerial, the U.S. and the EU announced their intention to consult with stakeholders on the work of the TTC and potential future work that the TTC may undertake.

II. Public Participation

To help inform USTR as it considers future cooperation within the Trade Working Group, USTR invites comments on the following:

• With specific regard to the Trade Working Group's efforts to enhance inclusive and sustainable bilateral trade in goods and services, including through the use of digital tools, how might USTR and DG Trade further improve or expand cooperation in a manner that is mutually beneficial to U.S. and EU stakeholders.

• With specific regard to the work of the Trade Working Group related to non-market policies and practices of third countries:

• How might USTR and DG Trade expand or enhance our cooperation and coordination of trade tools available to us or to create new tools.

• How might USTR and DG Trade, respectively or in coordination, use existing tools more effectively to deter and counter non-market policies and practices.

• Are there particular sectors that USTR and DG Trade should focus on?

• Are there particular non-market policies and practices that are of greatest concern to you? Why? How do those non-market policies and practices hinder or harm your interests?

• With specific regard to the work of the Trade Working Group related to trade and labor, including within the TALD, how might USTR, the U.S. Department of Labor, DG Trade, and the Directorate-General for Employment expand or enhance our cooperation and coordination to better address the needs of U.S. and EU workers and businesses.

• What steps can USTR take to provide a wide-range of U.S. and EU stakeholders the opportunity to periodically provide suggestions, feedback, and input to the Trade Working Group.

USTR will review these recommendations as it considers potential future U.S.-EU cooperation within the TTC's Trade Working Group.

III. Procedures for Written Submissions

To be assured of consideration, submit your written comments by the October 21, 2024, 11:59 p.m. ET deadline. All submissions must be in English. USTR strongly encourages submissions via Regulations.gov, using Docket Number USTR-2024-0017. To make a submission via Regulations.gov, enter Docket Number USTR-2024-0017 in the `search for' field on the home page and click `search.' The site will provide a search results page listing all documents associated with this docket. Find a reference to this notice by selecting `notice' under `document type' in the `refine documents results' section on the left side of the screen and click on the link entitled `comment.' Regulations.gov allows users to make submissions by filling in a `type comment' field, or by attaching a document using the `upload file' field. USTR prefers that you provide submissions in an attached document and, in such cases, that you write `see attached' in the `type comment' field. USTR prefers submissions in Microsoft Word (.doc) or Adobe Acrobat (.pdf). If you use an application other than those two, please indicate the name of the application in the `type comment' field.

At the beginning of your submission or on the first page (if an attachment), include the following text: (1) TTC Trade Working Group and (2) your organization's name. Submissions should not exceed 10 single-spaced, standard letter-size pages in 12-point type, including attachments. Please do not attach separate cover letters, exhibits, annexes, or other attachments to electronic submissions; rather, include any in the same file as the submission itself, not as separate files. You will receive a tracking number upon completion of the submission procedure at Regulations.gov. The tracking number is confirmation that Regulations.gov received your submission. Keep the confirmation for your records.

USTR is not able to provide technical assistance for Regulations.gov. For further information on using Regulations.gov, please consult the resources provided on the website by clicking on `How to Use Regulations.gov' on the bottom of the home page. USTR may not consider submissions that you do not make in accordance with these instructions.

If you are unable to provide submissions as requested, please contact Michael Rogers, Deputy Assistant U.S. Trade Representative for Europe, in advance of the deadline at Michael.A.Rogers@ustr.eop.gov or 202.395.2684, to arrange for an alternative method of transmission. USTR will not accept hand-delivered submissions.

General information concerning USTR is available at www.ustr.gov.

IV. Business Confidential Information (BCI)

If you ask USTR to treat information you submit as BCI, you must certify that the information is business confidential and you would not customarily release it to the public. For any comments submitted electronically containing BCI, the file name of the business confidential version should begin with the characters `BCI.' You must clearly mark any page containing BCI with `BUSINESS CONFIDENTIAL' at the top of that page. Filers of submissions containing BCI also must submit a public version of their submission that will be placed in the docket for public inspection. The file name of the public version should begin with the character `P.'

V. Public Viewing of Review Submissions

USTR will post written submissions in the docket for public inspection, except properly designated BCI. You can view submissions at Regulations.gov by entering Docket Number USTR-2024-0017 in the search field on the home page.

Bryant Trick,
Assistant U.S. Trade Representative for Europe and the Middle East, Office of the United States Trade Representative.

[FR Doc. 2024-19881 Filed 9-4-24; 8:45 am]

BILLING CODE 3390-F4-P